DEPARTMENT OF ENERGY

Federal Energy Regulatory Commission

Notice of Effectiveness of Exempt Wholesale Generator or Foreign Utility Company Status

September 7, 2006.

| Docket No.
LSP Morro Bay, LLC (f/k/a Duke Energy Morro Bay LLC) | EG06-54-000
LSP South Bay, LLC (f/k/a Duke Energy South Bay LLC) | EG06-55-000
Bridgeport Energy LLC (f/k/a Duke Energy Morro Bay LLC) | EG06-56-000
LSP Moss Landing, LLC (f/k/a Duke Energy Moss Landing LLC) | EG06-57-000
Griffith Energy, LLC | EG06-58-000
LSP Arlington Valley, LLC (f/k/a Duke Energy Arlington Valley LLC) | EG06-59-000
Casco Bay Energy Company, LLC | EG06-60-000
LSP Oakland, LLC (f/k/a Duke Energy Oakland LLC) | EG06-61-000
Flat Rock Windpower II LLC | EG06-62-000
EPCOR Transmission Inc.; EPCOR Energy Inc.; EPCOR Distribution Inc.; EPCOR Energy Alberta Inc.; EPCOR Utilities Inc | FC06-7-000
Babcock & Brown Infrastructure Limited; BBI Energy Partnership Pty Limited; BBI Networks (Australia) Pty Limited; BBI IEG Australia Holdings Pty Limited | FC06-8-000
SUEZ S.A.; Electrabel S.A.; SUEZ Energy Services S.A.; Rivolam S.A.; PTT Natural Gas Distribution Co. Ltd.; SUEZ Energy Asia Co. Ltd.; Suez-Tractebel Energy Holding Coöperatieve U.A.; Zhenjiang Hongshun Thermal Power Co. Ltd.; SUEZ Energy International Luxembourg S.A.; United Power Company S.A.O.G.; Belgelectric Finance B.V.; Sohar Power Company SAOC; Sohar Operation and Maintenance Company LLC; Al Ezzel Power Company B.S.C; Al Ezzel Operation and Maintenance Company W.L.L; Al Hidd Power Company B.S.C.; Tractebel Bahrain W.L.L.; Tractebel Parts & Repairs FZE; SUEZ Energy Andino S.A.; Tibsa Inversora S.A.; SUEZ Energy South America Participacoes Ltda.; Energía del Sur S.A.; Gas Natural de Lima y Callao S.R.L.; SUEZ Energia de Mexico, S.A. de C.V.; Mexico Gas Tampico 1 Ltd.; Tractebel Energia de Monterrey Holdings B.V.; Trigen Energia, Inc.; Trigen Mexico, Inc.; 6425496 Canada Inc | FC06-9-000
FortisOntario, Inc.; Newfoundland Power Inc.; Maritime Electric Company, Limited; FortisAlberta Inc.; FortisBC Inc.; Belize Electricity Limited; Carribean Utilities Company, Ltd; Princeton Light and Power Company, Limited | FC06-10-000
Prisma Energy Nicaragua Holdings Ltd.; Prisma Energy International Inc.; Empresa Energetica Corinto Ltd. | FC06-11-000
Brookfield Asset Management Inc.; Valerie Falls Limited Partnership; Lake Superior Power Limited Partnership; Mississippi Property Inc.; Superior Wind Blue Highlands Power Inc.; Superior Wind Prince Power Inc.; Brookfield Power Wind Prince LP; Beaver Power Corporation; Carmichael Limited Partnership; Algonquin Power (Nagagami) L.P.; FPS Canada, Inc.; Waltham Power and Company, Limited Partnership; Lièvre Power L.P.; Coulonge Power and Company, Limited Partnership; Powell River Energy Limited Partnership; Pingston Power Inc.; Energètica Rio Pedrinho S.A.; Centrais Hidrelètricas Grapon S.A.; Energètica Salto Natal S.A.; Energètica Ponte Alta S.A.; Brascan Energètica Minas Gerais S.A. | FC06-12-000
Centrica Barry Limited; Barrow Offshore Wind Limited; Braes of Doune Wind Farm (Scotland) Limited; Centrica (DSW) Limited; Centrica (IDW) Limited; Centrica (Lincs) Limited; Centrica (RBW) Limited; Centrica Brigg Limited; Centrica KL Limited; Centrica Langage Limited; Centrica KPS Limited; Centrica PB Limited; Centrica RPS Limited; Centrica SHB Limited; Glens of Foudland Windfarm Limited; Segebel SA | FC06-14-000

Take notice that during the month of August 2006, the status of the above-captioned entities as Exempt Wholesale Generators or Foreign Utility Companies became effective by operation of the Commission's regulations. 18 CFR 366.7(a).

Magalie R. Salas,
Secretary.

[FR Doc. E6-15172 Filed 9-12-06; 8:45 am]

BILLING CODE 6717-01-P